DEPARTMENT OF ENERGY

Federal Energy Regulatory Commission

[Docket No. IC05-550-001, FERC-550]

Commission Information Collection Activities, Proposed Collection; Comment Request; Submitted for OMB Review

May 31, 2005.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review of this information collection requirement. Any interested person may file comments directly with OMB and should address a copy of those comments to the Commission as explained below. The Commission received one comment in response to an earlier Federal Register notice of March 1, 2005 (70 FR 9938-39), and has prepared a response to the commenter in its submission to OMB.

DATES: Comments on the collection of information are due by June 30, 2005.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-33, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC05-550-001.

Documents filed electronically via the Internet must be prepared in, MS Word, Portable Document Format, Word Perfect or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-550 “Oil Pipeline Rates: Tariff Filings”

2. Sponsor: Federal Energy Regulatory Commission.

3. Control No.: 1902-0089.

The Commission is now requesting that OMB approve with a three-year extension of the expiration date, with no changes to the existing collection. The information filed with the Commission is mandatory.

4. Necessity of the Collection of Information: The filing requirement provides the basis for analysis of all rates, fares, or charges whatsoever demanded, charged or collected by any common carrier or carriers in connection with the transportation of crude oil and petroleum products and is used by the Commission for determining the just and reasonable rates that should be charged by the regulated pipeline company. Based on this analysis, a recommendation is made to the Commission to take action whether to suspend, accept or reject the proposed rate. The data required to be filed for pipeline rates and tariff filings is specified by 18 Code of Federal Regulations (CFR) Chapter I, parts 340-348.

Jurisdiction over oil pipelines as it relates to the establishment of rates or charges for the transportation of oil by pipeline or the establishment or valuations for pipelines, was transferred from the Interstate Commerce Commission (ICC) to FERC, pursuant to sections 306 and 402 of the Department of Energy Organization Act (DOE Act).

5. Respondent Description: The respondent universe currently comprises on average 200 respondents subject to the Commission's jurisdiction. The Commission estimates that it will receive annually on average 3 filings per year per respondent.

6. Estimated Burden: 6,600 total hours, 200 respondents (average per year), 3 responses per respondent, and 11 hours per response (average).

7. Estimated Cost Burden to respondents: The estimated total cost to respondents is $344,463. (6,600 hours ÷ 2080 hours per year × $108,558)

.

Statutory Authority: Part I, Sections 1, 6, and 15 of the Interstate Commerce Act (ICA), (Pub. L. 337, 34 Stat. 384.) Sections 306 and 402 of the Department of Energy Organization Act, 42 U.S.C. 7155 and 7172, and Executive Order No. 12009.

Magalie R. Salas,
Secretary.

[FR Doc. E5-2994 Filed 6-9-05; 8:45 am]

BILLING CODE 6717-01-P